MEDICARE PAYMENT ADVISORY COMMISSION

Commission Meeting

January 4, 2005.

AGENCY: Medicare Payment Advisory Commission.

ACTION: Notice of meeting.

SUMMARY: The Commission will hold its next public meeting on Wednesday, January 12, 2005 and Thursday, January 13, 2005, at the Ronald Reagan Building, International Trade Center, 1300 Pennsylvania Avenue, NW., Washington, DC. The meeting is tentatively scheduled to begin at 9:30 a.m. on January 12, and at 9 a.m. on January 13.

Topics for discussion include findings on congressionally mandated studies on specialty hospitals and risk adjustment and other issues related to the adjusted average per capita cost (AAPCC). The Commission will also discuss and vote on recommendations related to pay for performance for hospitals, physicians, and home health; and incentives for health care information technology for hospitals, physicians, and home health; and incentives for health care information technology adoption. In addition, the Commission will discuss and vote on recommendations related to payment adequacy for hospitals, physicians, skilled nursing facilities, home health, and dialysis. Other topics will include imaging, measuring physician resource use, and outpatient pharmacy services in hospitals.

Agendas will be e-mailed approximately one week prior to the meeting. The final agenda will be available on the Commission's Web site (http://www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 05-401 Filed 1-7-05; 8:45 am]

BILLING CODE 6820-BW-M